DEPARTMENT OF HEALTH AND HUMAN SERVICES

Centers for Disease Control and Prevention

[60Day-24-24FI; Docket No. CDC-2024-0036]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed and/or continuing information collection, as required by the Paperwork Reduction Act of 1995. This notice invites comment on a proposed information collection project titled Comprehensive Evaluations of the Division for Heart Disease and Stroke Prevention Programs (WISEWOMAN, National CVH Program, Innovative CVH Program). The purpose of the data collection is to evaluate the implementation of evidence-based strategies within these programs, measure their impact on cardiovascular disease (CVD) prevention and management, and to identify strategies that are most effective in reaching populations disproportionately affected by CVD.

DATES: CDC must receive written comments on or before July 8, 2024.

ADDRESSES: You may submit comments, identified by Docket No. CDC-2024-0036 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Comprehensive Evaluations of the Division for Heart Disease and Stroke Prevention Programs (WISEWOMAN, National CVH Program, Innovative CVH Program)—New—National Center for Chronic Disease Prevention and Health Promotion (NCCDPHP), Centers for Disease Control and Prevention (CDC).

Background and Brief Description

The Centers for Disease Control and Prevention (CDC) Division for Heart Disease and Stroke Prevention (DHDSP) are submitting this new three-year information collection request (ICR) for an evaluation of three recently launched cooperative agreements: Well-Integrated Screening of Women Across the Nation (WISEWOMAN), The National Cardiovascular Health Program (The National CVH Program), and The Innovative Cardiovascular Health Program (The Innovative CVH Program).

The WISEWOMAN program supports the early detection and treatment of hypertension in low-income, uninsured, and underinsured participants, ages 35-64. The National CVH Program implements evidence-based strategies to manage CVD in populations impacted by the high prevalence of CVD, exacerbated by health inequities and disparities, emphasizing hypertension and high cholesterol control among adults aged 18-85. The Innovative CVH Program focuses on implementing innovative evidence-based strategies to assess and address the health disparities and inequities in communities at highest risk (defined as census tracts with a crude hypertension prevalence of 53% or higher), where there is a particular need for equity-focused health system interventions to prevent, detect, control, and manage hypertension and high cholesterol. These three programs build upon CDC's previous work to identify promising CVD prevention and management practices and fund various organizations, including State and County governments, American Indian or Alaska Native tribal governments, non-government organizations, institutions of higher education, to implement evidence-based strategies in their jurisdictions. Since the programs are a substantial investment of federal funds, comprehensive evaluations are important to demonstrate the types of interventions being implemented and what is being accomplished using these funds.

The comprehensive evaluation of these programs includes process and outcome evaluations, and a cross-program analysis to assess the unique contributions of each program towards evidence-based strategies, health equity advancement, and health system transformation over the five program years. The evaluation aims to describe the implementation of the programs, assess the extent to which short-term, intermediate, and long-term outcomes have been met, and estimate the costs involved in implementing the programs. The comprehensive evaluation is designed to complement the evaluations already being conducted by program recipients. The data collection focuses on obtaining qualitative and cost information at the organizational and community levels about strategy implementation, facilitators and barriers, and other contextual information that affects program implementation and participant outcomes. Data collection activities of the comprehensive evaluation include qualitative interviews for evaluability assessments, exploratory assessments, and cost data collected for a cost study. During the qualitative data collection, semi-structured interviews will be conducted with recipients, their partnering sites, and Learning Collaborative members, providing a multifaceted view of the program's implementation and outcomes. Cost data will be used to estimate the implementation costs and value of resources invested by program recipients and their partners. Cost data will be collected through a spreadsheet-based cost inventory tool, key informant interviews, and document reviews. There are no costs to respondents except their time. Data collection tools are crafted to ensure relevance and capture essential information needed to evaluate the effectiveness and impact of the program strategies, while minimizing respondent burden.

The findings from the data collection will provide tailored, action-oriented, and timely recommendations for program improvement throughout the program period. Findings will foster documentation and sharing of lessons learned, contribute to the evidence base, and support replication and scaling of promising program strategies. Without collection of evaluative data, CDC will not be able to capture critical information needed to continuously improve programmatic efforts and clearly demonstrate the responsible use of federal funds.

CDC requests OMB approval for an estimated 2,054 annual burden hours. There is no cost to respondents other than their time to participate.

Estimated Annualized Burden Hours:

Type of respondents | Form name | Number of respondents | Number of responses per respondent | Average burden per response (in hours) | Total burden (in hours)
Recipients | Evaluability Assessment Nomination Form_NCHP_ICHP | 72 | 1 | 0.5 | 36
| Evaluability Assessment Nomination Form_WW | 35 | 1 | 0.5 | 17.5
| Eval Assessment CCL Recipient Interview Guide NCHP_ICHP | 18 | 1 | 1.5 | 27
| Eval Assessment CQM Recipient Interview Guide NCHP_ICHP | 18 | 1 | 1.5 | 27
| Eval Assessment TBC Recipient Interview Guide NCHP_ICHP | 18 | 1 | 1.5 | 27
| Eval Assessment CCL Recipient Interview Guide WW | 8 | 1 | 1.5 | 12
| Eval Assessment CQM Recipient Interview Guide WW | 8 | 1 | 1.5 | 12
| Eval Assessment TBC Recipient Interview Guide WW | 8 | 1 | 1.5 | 12
| Ex Assessment CCL Recipient Interview Guide_WW | 4 | 1 | 1.5 | 6
| Ex Assessment CQM Recipient Interview Guide_WW | 4 | 1 | 1.5 | 6
| Ex Assessment TBC Recipient Partner Interview Guide_WW | 4 | 1 | 1.5 | 6
| Ex Assessment CCL Recipient Interview Guide NCHP_ICHP | 9 | 1 | 1.5 | 13.5
| Ex Assessment CQM Recipient Interview Guide NCHP_ICHP | 9 | 1 | 1.5 | 13.5
| Ex Assessment TBC Recipient Interview Guide NCHP_ICHP | 9 | 1 | 1.5 | 13.5
| Cost Study Interview Guide_Recipient | 165 | 1 | 1 | 165
| Comprehensive Evaluation Resource Use and Cost Inventory Tool_Recipient | 110 | 1 | 2.5 | 275
| Eval Assessment CCL Partner Interview Guide NCHP_ICHP | 18 | 1 | 1.5 | 27
| Eval Assessment CQM Partner Interview Guide NCHP_ICHP | 18 | 1 | 1.5 | 27
| Eval Assessment TBC Partner Interview Guide NCHP_ICHP | 18 | 1 | 1.5 | 27
| Eval Assessment CCL Partner Interview Guide WW | 8 | 1 | 1.5 | 12
| Eval Assessment CQM Partner Interview Guide WW | 8 | 1 | 1.5 | 12
| Eval Assessment TBC Partner Interview Guide WW | 8 | 1 | 1.5 | 12
| Ex Assessment CCL Partner Interview Guide_WW | 4 | 1 | 1.5 | 6
| Ex Assessment CQM Partner Interview Guide_WW | 4 | 1 | 1.5 | 6
| Ex Assessment TBC Partner Interview Guide_WW | 4 | 1 | 1.5 | 6
| Ex Assessment CCL Partner Interview Guide NCHP_ICHP | 9 | 1 | 1.5 | 13.5
| Ex Assessment CQM Partner Interview Guide NCHP_ICHP | 9 | 1 | 1.5 | 13.5
| Ex Assessment TBC Partner Interview Guide NCHP_ICHP | 9 | 1 | 1.5 | 13.5
| Comprehensive Evaluation Resource Use and Cost Inventory Tool_Partner | 330 | 1 | 2.5 | 825
| Cost Study Interview Guide_Partner | 330 | 1 | 1 | 330
Learning Collaborative | Eval Assessment LC Interview Guide_NCHP_ICHP | 36 | 1 | 1 | 36
| Ex Assessment LC Interview Guide NCHP_ICHP | 18 | 1 | 1 | 18
Totals |  |  |  |  | 2054

Jeffrey M. Zirger,
Lead, Information Collection Review Office, Office of Public Health Ethics and Regulations, Office of Science, Centers for Disease Control and Prevention.

[FR Doc. 2024-09857 Filed 5-6-24; 8:45 am]

BILLING CODE 4163-18-P